DEPARTMENT OF HOMELAND SECURITY

Coast Guard

[Docket No. USCG-2016-0031]

Chemical Transportation Advisory Committee

AGENCY: Coast Guard, Department of Homeland Security

ACTION: Notice of Federal Advisory Committee meeting; correction.

SUMMARY: The Coast Guard published a notice on July 29, 2016, regarding meetings of the Chemical Transportation Advisory Committee. The meetings will take place on September 27, 28, and 29, 2016, in Washington, DC. The notice contained a typographical error regarding the date of the full committee meeting, which will take place on Thursday, September 29, 2016.

FOR FURTHER INFORMATION CONTACT: Mr. Patrick Keffler, Alternate Designated Federal Official of the Chemical Transportation Advisory Committee, 2703 Martin Luther King Jr. Ave. SE., Stop 7509, Washington, DC 20593-7509, telephone 202-372-1424, fax 202-372-8380, or patrick.a.keffler@uscg.mil.

Correction

In the Federal Register of July 29, 2016, in FR Doc. 2016-18035, on page 49999, in the first column, correct the DATES caption to read:

DATES: Subcommittees will meet on Tuesday, September 27, 2016, from 9 a.m. to 5 p.m. and on Wednesday, September 28, 2016, from 9: a.m. to 5 p.m. The full committee will meet on Thursday, September 29, 2016, from 9 a.m. to 5 p.m. (All times are Eastern Standard Time). Please note that these meetings may close early if the Committee has completed its business.

Dated: August 25, 2016.
Rebecca Orban,
Acting Chief, Office of Regulations and Administrative Law.

[FR Doc. 2016-20771 Filed 8-29-16; 8:45 am]

BILLING CODE 9110-04-P